COMMODITY FUTURES TRADING COMMISSION

Order

The Commission hereby (1) amends the charter of the Energy Markets Advisory Committee by renaming the committee the “Energy and Environmental Markets Advisory Committee” and substituting the attached “Charter of the Energy and Environmental Markets Advisory Committee” for the existing charter; (2) adopts the attached Findings in support of the charter amendment; (3) authorizes the Secretary to sign four official copies of the committee charter for filing; and (4) authorizes the filing of the amended charter with the Office of the Secretary; the Library of Congress; the Senate Committee on Agriculture, Nutrition and Forestry; and the House Committee on Agriculture.

Dated: April 10, 2009.
David A. Stawick,
Secretary of the Commission.

[FR Doc. E9-8824 Filed 4-16-09; 8:45 am]

BILLING CODE